DEPARTMENT OF ENERGY

Federal Energy Regulatory Commission

Combined Notice of Filings #1

Take notice that the Commission received the following electric rate filings:

Docket Numbers: ER10-2563-002.

Applicants: Wisconsin Electric Power Company.

Description: Wisconsin Electric Power Company's Notice of Non-Material Change in Status.

Filed Date: 5/30/13.

Accession Number: 20130530-5225.

Comments Due: 5 p.m. ET 6/20/13.

Docket Numbers: ER10-3168-007; ER10-3243-001; ER10-3169-004.

Applicants: ArcLight Energy Marketing, LLC, Chandler Wind Partners, LLC, Michigan Power Limited Partnership.

Description: Notice of Non-Material Change in Status of ArcLight Energy Marketing, LLC, et al.

Filed Date: 5/30/13.

Accession Number: 20130530-5274.

Comments Due: 5 p.m. ET 6/20/13.

Docket Numbers: ER12-1561-001.

Applicants: CCI Rensselaer LLC.

Description: CCI Rensselaer Notice of Change in Status to be effective 5/31/2013.

Filed Date: 5/30/13.

Accession Number: 20130530-5177.

Comments Due: 5 p.m. ET 6/20/13.

Docket Numbers: ER13-823-002.

Applicants: Castleton Commodities Merchant Trading L.P.

Description: Notice of Change in Status to be effective 5/31/2013.

Filed Date: 5/30/13.

Accession Number: 20130530-5170.

Comments Due: 5 p.m. ET 6/20/13.

Docket Numbers: ER13-1347-001.

Applicants: MeadWestvaco Coated Board, LLC.

Description: MeadWestVaco Coated Board LLC MBR Tariff Re-filing to be effective 9/1/2013.

Filed Date: 5/30/13.

Accession Number: 20130530-5008.

Comments Due: 5 p.m. ET 6/20/13.

Docket Numbers: ER13-1351-001.

Applicants: Florida Power Development LLC.

Description: FPD Amendment to Market-Based Rate Application to be effective 6/25/2013.

Filed Date: 5/30/13.

Accession Number: 20130530-5184.

Comments Due: 5 p.m. ET 6/20/13.

Docket Numbers: ER13-1587-000.

Applicants: Cleco Power LLC.

Description: Update OATT schedules for Loss Study results (Part 1 of 2) to be effective 6/1/2013.

Filed Date: 5/30/13.

Accession Number: 20130530-5137.

Comments Due: 5 p.m. ET 6/20/13.

Docket Numbers: ER13-1588-000.

Applicants: Cleco Power LLC.

Description: Update GFAs with new Loss Study Results (Part 2 of 2) to be effective 6/1/2013.

Filed Date: 5/30/13.

Accession Number: 20130530-5147.

Comments Due: 5 p.m. ET 6/20/13.

Docket Numbers: ER13-1589-000.

Applicants: RockGen Energy, LLC.

Description: Revised Reactive Rate Schedule to be effective 6/1/2013.

Filed Date: 5/30/13.

Accession Number: 20130530-5185.

Comments Due: 5 p.m. ET 6/20/13.

Docket Numbers: ER13-1590-000.

Applicants: Southern California Edison Company.

Description: Amended SGIA with TA-High Desert LLC to be effective 4/7/2013.

Filed Date: 5/31/13.

Accession Number: 20130531-5000.

Comments Due: 5 p.m. ET 6/21/13.

Docket Numbers: ER13-1591-000.

Applicants: Southern California Edison Company.

Description: SGIA and Distribution Service Agreement with Lancaster Little Rock D LLC to be effective 7/31/2013.

Filed Date: 5/31/13.

Accession Number: 20130531-5001.

Comments Due: 5 p.m. ET 6/21/13.

Docket Numbers: ER13-1592-000.

Applicants: Southern California Edison Company.

Description: SGIA and Distribution Agreement with Lancaster Little Rock C, LLC to be effective 7/31/2013.

Filed Date: 5/31/13.

Accession Number: 20130531-5010.

Comments Due: 5 p.m. ET 6/21/13.

Docket Numbers: ER13-1593-000.

Applicants: Pacific Gas and Electric Company.

Description: Western WDT May 2013 Biannual Filing to be effective 8/1/2013.

Filed Date: 5/31/13.

Accession Number: 20130531-5011.

Comments Due: 5 p.m. ET 6/21/13.

Docket Numbers: ER13-1594-000.

Applicants: Pacific Gas and Electric Company.

Description: Western IA May 2013 Biannual Filing to be effective 8/1/2013.

Filed Date: 5/31/13.

Accession Number: 20130531-5012.

Comments Due: 5 p.m. ET 6/21/13.

Docket Numbers: ER13-1595-000.

Applicants: Entergy Services, Inc.

Description: Entergy Services, Inc. submits the payment/receipts among the Entergy Operating Companies implementing the Service Schedule MSS-3 2013 Bandwidth Formula.

Filed Date: 5/30/13.

Accession Number: 20130530-5246.

Comments Due: 5 p.m. ET 6/20/13.

Docket Numbers: ER13-1596-000.

Applicants: San Diego Gas & Electric Company.

Description: Petition of San Diego Gas & Electric Company for Limited Waiver of Transmission Owner Tariff Appendix X.

Filed Date: 5/30/13.

Accession Number: 20130530-5247.

Comments Due: 5 p.m. ET 6/20/13.

Docket Numbers: ER13-1597-000.

Applicants: NorthWestern Corporation.

Description: SA 296—NITSA with ExxonMobil Corp to be effective 8/1/2013.

Filed Date: 5/31/13.

Accession Number: 20130531-5072.

Comments Due: 5 p.m. ET 6/21/13.

Docket Numbers: ER13-1598-000.

Applicants: Citizens Sunrise Transmission LLC.

Description: Petition of Citizens Sunrise Transmission LLC for Limited Waiver of Transmission Owner Tariff Appendix III.

Filed Date: 5/30/13.

Accession Number: 20130530-5269.

Comments Due: 5 p.m. ET 6/20/13.

Docket Numbers: ER13-1599-000.

Applicants: Midcontinent Independent System Operator, Inc.

Description: 05-31-2013 SA 2508 Term Northstar-Pheasant MPFCA to be effective 7/30/2013.

Filed Date: 5/31/13.

Accession Number: 20130531-5094.

Comments Due: 5 p.m. ET 6/21/13.

Docket Numbers: ER13-1600-000.

Applicants: Midcontinent Independent System Operator, Inc.

Description: 05-31-2013 Schedule 44 VLR Filing to be effective 8/1/2013.

Filed Date: 5/31/13.

Accession Number: 20130531-5099.

Comments Due: 5 p.m. ET 6/21/13.

Docket Numbers: ER13-1601-000.

Applicants: Black Hills Power, Inc.

Description: Joint Tariff Schedule 2 True-Up Filing to be effective 1/1/2012.

Filed Date: 5/31/13.

Accession Number: 20130531-5100.

Comments Due: 5 p.m. ET 6/21/13.

Take notice that the Commission received the following electric securities filings:

Docket Numbers: ES13-28-000.

Applicants: Duquesne Light Company.

Description: Application of Duquesne Light Company Pursuant to Section 204 of the Federal Power Act for an Order Authorizing the Issuance of Short-Term Indebtedness.

Filed Date: 5/30/13.

Accession Number: 20130530-5252.

Comments Due: 5 p.m. ET 6/20/13.

Take notice that the Commission received the following electric reliability filings:

Docket Numbers: RR13-6-000.

Applicants: North American Electric Reliability Corporation.

Description: North American Electric Reliability Corporation's Report of Comparisons of Budgeted to Actual Costs for 2012 for NERC and the Regional Entities.

Filed Date: 5/30/13.

Accession Number: 20130530-5228.

Comments Due: 5 p.m. ET 7/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2013.
Nathaniel J. Davis, Sr.,
Deputy Secretary.

[FR Doc. 2013-13586 Filed 6-6-13; 8:45 am]

BILLING CODE 6717-01-P